SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C. Chapter 35 requires federal agencies to publish a notice in the Federal Register concerning each proposed collection of information before submission to OMB, and to allow 60 days for public comment in response to the notice. This notice complies with that requirement.

DATES: Submit comments on or before January 23, 2018.

ADDRESSES: Send all comments to Dena Moglia, Supervisor Veterans Affairs Specialist, Office of Veterans, Small Business Administration, 409 3rd Street, 6th Floor, Washington, DC 20416.

FOR FURTHER INFORMATION CONTACT: Dena Moglia, Supervisor Veterans Affairs Specialist, Office of Veterans, dena.moglia@sba.gov 202-205-7034, or Curtis B. Rich, Management Analyst, 202-205-7030, curtis.rich@sba.gov.

SUPPLEMENTARY INFORMATION: This form facilitates online registration for the Boots to Business course for eligible service members and their spouses. The collected data will be used to report course statistics, manage course operations more efficiently, tailor individual classes based on the experience and interests of the participants, and ultimately contact Boots to Business alumni.

Solicitation of Public Comments: Comments may be submitted on (a) whether the collection of information is necessary for the agency to properly perform its functions; (b) whether the burden estimates are accurate; (c) whether there are ways to minimize the burden, including through the use of automated techniques or other forms of information technology; and (d) whether there are ways to enhance the quality, utility, and clarity of the information.

Summary of Information Collections

Title: Boots to Business Course Registration.

Description of Respondents: Transitioning Service Members.

Form Number: N/A.

Estimated Annual Respondents: 15,000.

Estimated Annual Responses: 15,000.

Estimated Annual Hour Burden: 79,000.

Curtis B. Rich,
Management Analyst.

[FR Doc. 2017-25384 Filed 11-22-17; 8:45 am]

BILLING CODE 8025-01-P